ENVIRONMENTAL PROTECTION AGENCY

40 CFR Part 52

[EPA-R09-OAR-2019-0439; FRL-10005-31-Region 9]

Air Plan Approval; California; Mojave Desert Air Quality Management District

Correction

In Rule document 2020-03251, appearing on pages 11812-11814, in the issue of Thursday, February 27, 2020, make the following correction:

On page 11812, in the first column, the subject-line is corrected to read as set forth above.

[FR Doc. C1-2020-03251 Filed 3-4-20; 8:45 am]

BILLING CODE 1301-00-D